DEPARTMENT OF COMMERCE

International Trade Administration

[A-475-818]

Certain Pasta From Italy: Amended Final Results of Antidumping Duty Administrative Review; 2014-2015

AGENCY: Enforcement and Compliance, International Trade Administration, Department of Commerce.

SUMMARY: The Department of Commerce (the Department) is amending the final results of the antidumping duty administrative review of certain pasta (pasta) from Italy to correct a ministerial error. The period of review (POR) is July 1, 2014, through June 30, 2015.

DATES: Effective January 25, 2017.

FOR FURTHER INFORMATION CONTACT: Joy Zhang, AD/CVD Operations, Office III, Enforcement and Compliance, International Trade Administration, U.S. Department of Commerce, 1401 Constitution Avenue NW., Washington, DC 20230; telephone: (202) 482-1168.

SUPPLEMENTARY INFORMATION:

Background

On December 13, 2016, the Department disclosed to interested parties its calculations for the Final Results.¹ On December 16, 2016, the Department received a timely filed ministerial error allegation from Liguori Pastificio dal 1820 S.p.A. (Liguori) regarding the Department's final margin calculation.² On December 19, 2016, the Department received a timely filed ministerial error allegation from Industria Alimentare Colavita S.p.A. (Indalco) regarding the Department's final margin calculation.³

¹ See Certain Pasta from Italy: Final Results of Antidumping Duty Administrative Review; 2014-2015, 81 FR 91120 (December 16, 2016) (Final Results). See also Memorandum to the File, Through Eric B. Greynolds, Program Manager, Office III, from George McMahon, Case Analyst, Office III, titled “Certain Pasta from Italy: Calculation Memorandum—Indalco,” (Final Results—Indalco Calculations); see also Memorandum to Eric Greynolds, Program Manager, AD/CVD Operations, Office III from Joy Zhang, Case Analyst, “2014-2015 Antidumping Duty Administrative Review of Certain Pasta from Italy—Final Results, Sales Analysis Memorandum for Liguori,” dated December 12, 2016 (Final Results—Liguori Calculations).

² See Letter from Liguori, “Antidumping Duty Administrative Review of Certain Pasta from Italy: Ministerial Error Allegation Regarding Liguori Pastificio dal 1820 S.p.A,” dated December 16, 2016.

³ See Letter from Indalco, “Certain Pasta from Italy: 19th POR: Request for Correction of Clerical Error,” dated December 19, 2016.

Period of Review

The POR covered by this review is July 1, 2014, through June 30, 2015.

Scope of the Order

Imports covered by the order are shipments of certain non-egg dry pasta. The merchandise subject to review is currently classifiable under items 1901.90.90.95 and 1902.19.20 of the Harmonized Tariff Schedule of the United States (HTSUS). Although the HTSUS subheadings are provided for convenience and customs purposes, the written description of the merchandise subject to the order is dispositive.⁴

⁴ For a full description of the scope of the order, see the “Issues and Decision Memorandum for the Final Results of Antidumping Duty Administrative Review and Partial Rescission: Certain Pasta from Italy; 2014-2015” from Christian Marsh, Deputy Assistant Secretary for Antidumping and Countervailing Duty Operations, to Paul Piquado, Assistant Secretary for Enforcement and Compliance, dated December 12, 2016 (Issues and Decision Memorandum).

Ministerial Errors

Section 751(b) of the Tariff Act of 1930, as amended (the Act), and 19 CFR 351.224(f) define a ministerial error as an error “in addition, subtraction, or other arithmetic function, clerical errors resulting from inaccurate copying, duplication, or the like, and any other type of unintentional error which {the Department} considers ministerial.” We analyzed the ministerial error comments submitted by Indalco and Liguori and determined, in accordance with section 751(h) of the Act and 19 CFR 351.224(e), that there is a ministerial error in our margin calculations for Liguori for the Final Results. For a complete discussion of the alleged errors, see the Department's Ministerial Error Memorandum.⁵

⁵ See “Amended Final Results of the 2014-2015 Administrative Review of the Antidumping Duty Order on Certain Pasta from Italy: Allegation of Ministerial Error,” dated concurrently with this notice (“Ministerial Error Memorandum”).

In accordance with section 751(h) of the Act and 19 CFR 351.224(e), we are amending the Final Results. Specifically, we are amending the weighted-average dumping margin for Liguori, as well as for the companies that were not selected for individual examination, which were assigned the rate based on the weighted-average dumping margins for Indalco and Liguori.⁶ The revised weighted-average dumping margins for the affected companies are detailed below.

⁶ See Final Results, 81 FR at 91120.

Amended Final Results

As a result of correcting for the ministerial error, we determined the following amended weighted-average dumping margins exist for the period July 1, 2014, through June 30, 2015:

Producer and/or exporter | Weighted-average dumping margin (percent)
Industria Alimentare Colavita S.p.A. (Indalco) | 1.20
Liguori Pastificio Dal 1820 (Liguori) | 5.55
Agritalia S.r.L. (Agritalia) | 2.47
Atar S.r.L. (Atar) | 2.47
Corticella Molini e Pastifici S.p.A. (Corticella) | 2.47
Delverde Industrie Alimentari S.p.A. (Delverde) | 2.47
Domenico Paone fu Erasmo S.p.A. (Domenico) | 2.47
F. Divella S.p. A. (F. Divella) | 2.47
La Fabbrica della Pasta di Gragnano S.a.s. di Antonio Moccia (La Fabbrica) | 2.47
Molino e Pastificio Tomasello S.r.L. (Tomasello) | 2.47
P.A.P SNC DI Pazienza G.B. & C.⁷ | 2.47
Pasta Zara S.p.A. (Pasta Zara) | 2.47
Pastificio Carmine Russo S.p.A. (Carmine) | 2.47
Pastificio DiMartino Gaetano & F. Ili S.r.L. (DiMartino) | 2.47
Pastificio Fabianelli S.p.A. (Fabianelli) | 2.47
Pastificio Felicetti S.r. L. (Felicetti) | 2.47
Pastificio Labor S.r.L. (Labor) | 2.47
Pastificio Riscossa F. Ili Mastromauro S.p.A. (AKA Pastificio Riscossa F. Ili. Mastromauro S.r.L.) (Riscossa) | 2.47
Poiatti S.p.A. (Poiatti) | 2.47
Premiato Pastificio Afeltra S.r. L. (Premiato) ⁸ | 2.47
Rustichella d'Abruzzo S.p.A. (Rustichella) | 2.47

Duty Assessment/Cash Deposits

⁷ In the Initiation Notice, the Department initiated an administrative review of “P.A.P SNC DI Pazienza G.B. & C.” See Initiation of Antidumping and Countervailing Duty Administrative Reviews, 80 FR 53106 (September 2, 2015) (Initiation Notice). In the recently completed changed circumstances review of this company the Department determined that P.A.P. S.R.L. is the successor-in-interest to P.A.P SNC DI Pazienza G.B. & C. See Certain Pasta from Italy: Final Results of Changed Circumstances Review, 80 FR 48807 (August 14, 2015) (P.A.P. S.R.L. CCR).

The rate of 2.47 percent, as listed in the rate chart above, will apply to P.A.P SNC DI Pazienza G.B. & C. for assessment purposes. Effective December 16, 2016, the rate of 2.47 percent, as listed in the rate chart above for P.A.P SNC DI Pazienza G.B. & C., will apply to P.A.P. S.R.L. for cash deposit purposes.

⁸ In the Initiation Notice, the Department inadvertently misspelled the name of Premiato as “Premiato Pastificio Afreltra S.r.L.”

The Department intends to issue assessment instructions to CBP 15 days after the date of publication of these amended final results to liquidate shipments of subject merchandise produced and/or exported by respondents listed above entered, or withdrawn form warehouse, for consumption on or after July 1, 2014, through June 30, 2015.

Pursuant to section 751(a)(2)(C) of the Act, the Department also intends to instruct CBP to collect cash deposits of estimated dumping duties, in the amounts shown above for each of the respective companies shown above, on shipments of subject merchandise entered, or withdrawn from warehouse, for consumption on or after December 16, 2016, the date of publication of the Final Results. For all non-reviewed firms, we will instruct CBP to continue to collect cash deposits at the most-recent company-specific or all-others rate applicable to the company, as appropriate. These cash deposit requirements, when imposed, shall remain in effect until further notice.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Disclosure

We will disclose the calculations performed for these amended final results to interested parties within five business days of the date of the publication of this notice in accordance with 19 CFR 351.224(b)

We are issuing and publishing this notice in accordance with sections 751(h) and 777(i)(1) of the Act and 19 CFR 351.224(e).

Dated: January 17, 2017.
Paul Piquado,
Assistant Secretary for Enforcement and Compliance.

[FR Doc. 2017-01597 Filed 1-24-17; 8:45 am]

BILLING CODE 3510-DS-P